DEPARTMENT OF TRANSPORTATION

Maritime Administration

[Docket No. DOT-MARAD 2014-0145]

Request for Comments of a Previously Approved Information Collection: Application for Waiver of the Coastwise Trade Laws for Small Passenger Vessels

ACTION: Notice and request for comments.

SUMMARY: In compliance with the Paperwork Reduction Act of 1995 (44 U.S.C. 3501 et seq.), this notice announces that the Information Collection Request (ICR) abstracted below is being forwarded to the Office of Management and Budget (OMB) for review and comments. A Federal Register Notice with a 60-day comment period soliciting comments on the following information collection was published on August 26, 2014 (Federal Register 50980, Vol. 79, No. 165) and comments were due by October 27, 2014. No comments were received.

DATES: Comments must be submitted on or before December 26, 2014.

FOR FURTHER INFORMATION CONTACT: Michael Hokana, 202-366-0760, Office of Cargo and Commercial Sealift, Maritime Administration, U.S. Department of Transportation, 1200 New Jersey Avenue SE., Washington, DC 20590, Email: Michael.Hokana@dot.gov.

SUPPLEMENTARY INFORMATION:

Title: Application for Waiver of the coastwise Trade Laws for Small Passenger vessels.

OMB Control Number: 2133-0529.

Type of Request: Renewal of a Previously Approved Information Collection.

Abstract: Owners of small passenger vessels desiring waiver of the coastwise trade laws affecting small passenger vessels will be required to file a written application and justification for waiver to the Maritime Administration (MARAD). The agency will review the application and make a determination whether to grant the requested waiver.

Affected Public: Small passenger vessel owners who desire to operate in the coastwise trade.

Estimated Number of Respondents: 95.

Estimated Number of Responses: 95.

Annual Estimated Total Annual Burden Hours: 95.

ADDRESSES: Send comments regarding the burden estimate, including suggestions for reducing the burden, to the Office of Management and Budget, Attention: Desk Officer for the Office of the Secretary of Transportation, 725 17th Street NW., Washington, DC 20503.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Authority: The Paperwork Reduction Act of 1995; 44 U.S.C. Chapter 35, as amended; and 49 CFR 1.93.

Dated: November 20, 2014.
Julie P. Agarwal,
Secretary, Maritime Administration.

[FR Doc. 2014-27989 Filed 11-25-14; 8:45 am]

BILLING CODE 4910-81-P